Proclamation 10916 of April 9, 2025

Education and Sharing Day, U.S.A., 2025

By the President of the United States of America

A Proclamation

This Education and Sharing Day, U.S.A, we draw inspiration from the life, legacy, and blessed memory of Rabbi Menachem Mendel Schneerson, the Lubavitcher Rebbe and leader of the Chabad-Lubavitch community, whose Hebrew birthday corresponds to this day. He was a transformational teacher and a spiritual force who—from the ashes of the Holocaust—established one of the most vibrant, joyous, and significant religious movements of the modern era. In the wake of unimaginable destruction, he embarked on a global campaign of spiritual outreach to bring the light of faith and Yiddishkeit to countless members of the Jewish community. All Americans can learn from his tireless devotion to teaching, good deeds, and charity.

From 770 Eastern Parkway in Crown Heights, the modest home that continues to serve as Chabad headquarters, he reinvigorated the Chabad-Lubavitch movement and led a religious revival—one that would touch all four corners of the globe. Today, Chabad and its shluchim, emissaries dedicated to spreading Jewish awareness, education, and kindness in communities around the world, still serve as beacons of the Rebbe's teachings and boundless love for all humanity. Their community centers stand as living testaments to his message, legacy, and unwavering commitment to outreach and support. They are spread across the United States and around the world, within big cities, small towns, and on college campuses, more than doubling in number since his death.

On the first anniversary of the brutal October 7, 2023, attacks, I visited the Ohel of Rabbi Schneerson and drew spiritual guidance and replenishment from his voice and message. There, praying with the family members of American hostage Edan Alexander and Auschwitz survivor Jerry Wartski, I was personally reminded of the horrors of antisemitism—whether perpetuated by the Nazis or Hamas. My commitment to combating it is unwavering. My Administration has made great strides in bringing home all hostages captured during the murderous and criminal Hamas attacks of October 7, 2023, and to securing peace and stability for the Jewish people in their homeland and around the world.

The First Lady and I encourage all Americans to reflect upon the Rebbe's teachings. His inestimable dedication and unwavering example have become woven into the very fabric of our Nation and its character. His memory remains a blessing to the world.

NOW, THEREFORE, I, DONALD J. TRUMP, President of the United States of America, by virtue of the authority vested in me by the laws of the United States, do hereby proclaim April 9, 2025, as “Education and Sharing Day, U.S.A.” I call upon all government officials, educators, volunteers, and all the people of the United States to observe this day with appropriate programs, ceremonies, and activities.

IN WITNESS WHEREOF, I have hereunto set my hand this ninth day of April, in the year of our Lord two thousand twenty-five, and of the Independence of the United States of America the two hundred and forty-ninth.

[FR Doc. 2025-06961

Filed 4-21-25; 8:45 am]

Billing code 3395-F4-P